DEPARTMENT OF HEALTH AND HUMAN SERVICES

Administration for Children and Families

[CFDA Number: 93.508]

Announcing the Award of Four Single-Source Expansion Supplement Grants Under the Tribal Maternal, Infant, and Early Childhood Home Visiting (MIECHV), Tribal Early Learning Initiative Program

AGENCY: Office of Child Care, ACF, HHS.

ACTION: Notice of the award of four single-source program expansion supplement grants to Tribal Maternal, Infant, and Early Childhood Home Visiting (MIECHV) grantee participants in the Tribal Early Learning Initiative.

SUMMARY: This announces the award of single-source program expansion supplement grants to the following Tribal Maternal, Infant, and Early Childhood Home Visiting (MIECHV) grantees to support their ongoing participation in the Tribal Early Learning Initiative, by the Office of Child Care, a program of the Administration for Children and Families.

Choctaw Nation of Oklahoma | Durant, OK | $25,000
Pueblo of San Felipe | San Felipe, NM | 25,000
Confederated Salish and Kootenai Tribes | Pablo, MT | 25,000
White Earth Band of Chippewa Indians | White Earth, MN | 25,000

The program expansion supplement awards will support expanded services to identify and analyze systems to improve effectiveness and efficiencies across early childhood programs, share action plans to improve outcomes, continue the implementation of and expand the development of concrete community plans, and develop peer learning relationships.

DATES: September 30, 2013-September 29, 2014.

FOR FURTHER INFORMATION CONTACT: Shannon Rudisill, Director, Office of Child Care, 901 D Street SW., Washington, DC 20447. Telephone: (202) 401-6984; Email: shannon.rudisill@acf.hhs.gov.

SUPPLEMENTARY INFORMATION: One of the stated goals of the Tribal MIECHV program is to support and strengthen cooperation and coordination, and promote linkages among various programs that serve pregnant women, expectant fathers, young children, and families, resulting in the establishment of coordinated and comprehensive early childhood systems in grantee communities.

The activities of the four grantees are expected to result in models for tribal early learning systems that can be replicated in other tribal communities as well as to expand the reach and impact of technical assistance activities for the four participating tribal grantees.

In addition, the supplements will expand the reach and impact of technical assistance efforts by supporting and strengthening existing coordination and collaboration activities and expanding the scope of additional such activities in tribal communities.

Statutory Authority: Awards are supported by section 511(h)(2)(A) of Title V of the Social Security Act, as added by Section 2951 of the Patient Protection and Affordable Care Act, Public Law 111-148, also known as the Affordable Care Act (ACA).

Shannon L. Rudisill,
Director, Office of Child Care.

[FR Doc. 2013-24863 Filed 10-22-13; 8:45 am]

BILLING CODE 4184-43-P